DEPARTMENT OF ENERGY

Federal Energy Regulatory Commission

[Project No. 175-032]

Pacific Gas and Electric Company; Notice of Intent To Prepare an Environmental Assessment

On April 18, 2024, Pacific Gas and Electric Company (PG&E) filed an application to relicense the 131.52-megawatt Balch Hydroelectric Project No. 175-032. The project is located on the North Fork Kings River in Fresno County, California, approximately 45 miles northeast of the City of Fresno.

In accordance with the Commission's regulations, on May 15, 2025, Commission staff issued a notice that the project was ready for environmental analysis (REA notice). Based on the information in the record, including comments filed on the REA Notice, staff does not anticipate that licensing the project would constitute a major federal action significantly affecting the quality of the human environment. Therefore, staff intends to prepare an environmental assessment (EA) on the application to relicense the project.¹

¹ The unique identification number for documents relating to this environmental review is EAXX-019-20-000-1753881685.

The EA will be issued and circulated for review by all interested parties. All comments filed on the EA will be analyzed by staff and considered in the Commission's final licensing decision.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

The application will be processed according to the following schedule. The EA will be issued for a 30-day comment period. Revisions to the schedule may be made as appropriate.

Milestone | Target date
Commission issues EA | July 28, 2026.

Any questions regarding this notice may be directed to Benjamin Mann at 202-502-8027 or benjamin.mann@ferc.gov.

Dated: July 31, 2025.
Debbie-Anne A. Reese,
Secretary.

[FR Doc. 2025-14840 Filed 8-4-25; 8:45 am]

BILLING CODE 6717-01-P